DEPARTMENT OF THE INTERIOR

National Park Service

[NPS-WASO-NAGPRA-NPS0031388; PPWOCRADN0-PCU00RP14.R50000]

Notice of Inventory Completion: Geneva Historical Society, Geneva, NY

AGENCY: National Park Service, Interior.

ACTION: Notice.

SUMMARY: The Geneva Historical Society has completed an inventory of human remains in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the Geneva Historical Society. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Geneva Historical Society at the address in this notice by March 1, 2021.

ADDRESSES: Kerry Lippincott, Geneva Historical Society, 543 South Main Street, Geneva, NY 14456, telephone (315) 789-5151, email director@genevahistoricalsociety.com.

SUPPLEMENTARY INFORMATION: Notice is here given in accordance with the Native American Graves Protection and Repatriation Act (NAGPRA), 25 U.S.C. 3003, of the completion of an inventory of human remains under the control of the Geneva Historical Society, Geneva, NY. The human remains were removed from the Reed Farm, Ontario County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Geneva Historical Society professional staff in consultation with representatives of the Seneca Nation of Indians (previously listed as Seneca Nation of New York).

History and Description of the Remains

In the spring of 1969, human remains representing, at minimum, one individual were removed from Reed Farm in Ontario County, NY. Two boys, James and Thomas Reed, discovered the human remains in a sand mound eight miles south of Geneva, NY, along Seneca Lake. They found the remains of one individual, possibly female, buried in a seated position with crossed arms and crossed legs, and facing east. In May 1969, the Reed family placed the human remains on loan with the Geneva Historical Society, and since 1995, the human remains have been under the Society's control. No known individuals were identified. No associated funerary objects were present.

A written description of the burial at the time of discovery stated that no artifacts were discovered with the human remains. In 1995, Peter Jemison, NAGPRA coordinator for the Seneca Nation of Indians, opined that the human remains were of pre-historic date, as a Haudenosaunee burial would have included a beaded necklace. Along the eastern shore of Seneca Lake seasonal settlements established for fishing marked the periphery of Seneca Nation territory. A few miles to the west of these settlements, archeological evidence exists for the associated Seneca towns. Based on the totality of the information, the Geneva Historical Society has determined that the human remains listed in this notice are ancestral to the Seneca people.

Determinations Made by the Geneva Historical Society

Officials of the Geneva Historical Society have determined that:

• Pursuant to 25 U.S.C. 3001(9), the human remains described in this notice represent the physical remains of one individual of Native American ancestry.

• Pursuant to 25 U.S.C. 3001(2), there is a relationship of shared group identity that can be reasonably traced between the Native American human remains and the Seneca Nation of Indians (previously listed as Seneca Nation of New York).

Additional Requestors and Disposition

Lineal descendants or representatives of any Indian Tribe or Native Hawaiian organization not identified in this notice that wish to request transfer of control of these human remains should submit a written request with information in support of the request to Kerry Lippincott, Geneva Historical Society, 543 South Main Street, Geneva, NY 14456, telephone (315) 789-5151, email director@genevahistoricalsociety.com, by March 1, 2021. After that date, if no additional requestors have come forward, transfer of control of the human remains to the Seneca Nation of Indians (previously listed as Seneca Nation of New York) may proceed.

The Geneva Historical Society is responsible for notifying the Seneca Nation of Indians (previously listed as Seneca Nation of New York) that this notice has been published.

Dated: January 14, 2021.
Melanie O'Brien,
Manager, National NAGPRA Program.

[FR Doc. 2021-01897 Filed 1-27-21; 8:45 am]

BILLING CODE 4312-52-P